DEPARTMENT OF COMMERCE

Foreign-Trade Zones Board

[B-70-2015]

Foreign-Trade Zone (FTZ) 39—Dallas/Fort Worth, Texas; Notification of Proposed Production Activity, KONE, Inc. (Elevator Parts), Allen, Texas

KONE, Inc. (KONE) submitted a notification of proposed production activity to the FTZ Board for its facility in Allen, Texas. The notification conforming to the requirements of the regulations of the FTZ Board (15 CFR 400.22) was received on October 29, 2015.

The KONE facility is located within Site 21 of FTZ 39. The facility is used for the research, testing and manufacturing of elevator logic control enclosure electrification panels and pick-and-pack elevator part kits. Pursuant to 15 CFR 400.14(b), FTZ activity would be limited to the specific foreign-status materials and components and specific finished products described in the submitted notification (as described below) and subsequently authorized by the FTZ Board.

Production under FTZ procedures could exempt KONE from customs duty payments on the foreign status components used in export production. On its domestic sales, KONE would be able to choose the duty rates during customs entry procedures that apply to elevator logic control enclosure electrification panels and pick-and-pack elevator part kits (duty rate ranges from duty-free to 2.7%) for the foreign status inputs noted below. Customs duties also could possibly be deferred or reduced on foreign status production equipment.

The components and materials sourced from abroad include: Adhesives; plastic rods; plastic tubes; plastic bushings; self-adhesive plastic electrical tape; plastic bumper strips in rolls; plastic guides and covers; plastic cover seals; plastic gaskets; plastic insulation; rubber gaskets; rubber pads; rubber isolation parts; paper film displays; paper labels; paper drilling templates; printed product information; galvanized steel sheets; galvanized steel wire; stainless steel sheets; steel profile parts; steel sheet piling; steel tubes; threaded steel elbows; threaded steel fittings; steel pipe fittings; steel chains; steel anchors; steel screws, bolts and nuts; steel spacer studs; steel lock washers; steel washers; steel rivets; steel cotter pins; steel mesh; steel rods; steel brackets; steel cabinets; copper plates; copper screws; copper nuts; copper springs; aluminum spacers; metal cabinet locks; lock parts (latch cam); base metal hinges for metal cabinets; base metal brackets, covers and handles for metal cabinets; base metal conduits and plates; sensors meant for weighing; circuit board parts; gearless motor stub shafts; bushings; roller screws; shaft couplings; clutches; electric motors; electric motor parts; electrical transformers; static converters; power inducers; electrical transformer parts; magnets; electromagnetic braking units; emergency intercoms; adapter modules; intercom/telephone parts; speakers; computerized voice recorders; printed circuit parts; pilot alarms; light indicator panels; pilot lights for printed circuits; resistor assemblies; resistor parts; fuses; automatic circuit breakers; resistor capacitor unit protectors; relay units; circuit breakers; electronic seismic switches; switches; electrical connectors; electrical couplings; main controller CPU with printed circuit boards; electrical boards; box back panels; electronic integrated circuit parts; electrical encoders; electric conductors; LED display counters; and, LED speed-direction indicators (duty rate ranges from duty-free to 12.5%).

Public comment is invited from interested parties. Submissions shall be addressed to the Board's Executive Secretary at the address below. The closing period for their receipt is December 16, 2015.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: October 30, 2015.
Elizabeth Whiteman,
Acting Executive Secretary.

[FR Doc. 2015-28341 Filed 11-5-15; 8:45 am]

BILLING CODE 3510-DS-P